DEPARTMENT OF EDUCATION

Notice of Submission for OMB Review

AGENCY: Department of Education.

ACTION: Comment request.

SUMMARY: The Acting Director, Information Collection Clearance Division, Privacy, Information and Records Management Services, Office of Management, invites comments on the submission for OMB review as required by the Paperwork Reduction Act of 1995 (Pub. L. 104-13).

DATES: Interested persons are invited to submit comments on or before December 30, 2011.

ADDRESSES: Written comments should be addressed to the Office of Information and Regulatory Affairs, Attention: Education Desk Officer, Office of Management and Budget, 725 17th Street NW., Room 10222, New Executive Office Building, Washington, DC 20503, be faxed to (202) 395-5806 or emailed to oira_submission@omb.eop.gov with a cc: to ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: November 25, 2011.
Kate Mullan,
Acting Director, Information Collection Clearance Division, Privacy, Information and Records Management Services, Office of Management.

Institute of Education Sciences

Type of Review: New.

Title of Collection: College Affordability and Transparency Explanation Form (CATEF) 2011-2014.

OMB Control Number: Pending.

Agency Form Number(s): N/A.

Frequency of Responses: Annually.

Affected Public: State, Local and Tribal Government.

Total Estimated Number of Annual Responses: 532.

Total Estimated Annual Burden Hours: 1,596.

Abstract: The National Center for Education Statistics (NCES) is seeking a three-year clearance for a new survey data collection for the College Affordability and Transparency List Explanation Form (CATEF). The collection of this information is necessary pursuant to the Higher Education Opportunity Act (HEOA) Section 111, Part C (20 U.S.C. 1015a) with the goal of increasing transparency of college tuition prices for consumers. The clearance should start with the 2011-12 collection year and extend through the 2012-13 and 2013-14 collections. Part C of Section 111 of HEOA included provisions for improved transparency in college tuition for consumers. In response to these provisions, the Department of Education created The College Affordability and Transparency Center (CATC) which can be accessed through College Navigator. The CATC includes information for students, parents, and policymakers about college costs at America's colleges and universities. The CATC also includes several lists of institutions based on the tuition and fees and/or net prices (the price of attendance after considering all grant and scholarship aid) charged to students, including a list of institutions that are in the five percent of institutions in their institutional sector that have the highest increases, expressed as a percentage change, over the three-year time period for which the most recent data are available. The clearance being requested is to survey the institutions on this list using the College Affordability and Transparency Explanation Form to collect follow-up information. The lists appearing in CATC are generated using data collected by NCES through the Integrated Postsecondary Education Data System (IPEDS). IPEDS is a mandatory data collection for institutions that participate in or are applicants for participation in any federal student financial aid program authorized by Title IV of the Higher Education Act of 1965, as amended (20 USC 1094, Section 487(a)(17) and 34 CFR 668.14(b)(19)). The additional information to be collected will be used to write a summary report for Congress which will also be posted on the College Navigator Web site. The report will summarize the general and sector specific findings from the CATEF using descriptive statistics. The main cost areas showing the highest increases will be identified using the percent change information provided by institutions. The most commonly reported plans to reduce the increases in those cost increases will also be indicated. Finally, the extent to which institutions participate in setting tuition and fees and net prices for students will be described and the agencies outside of the institutions that decide those student charges will be identified.

Copies of the information collection submission for OMB review may be accessed from the RegInfo.gov Web site at http://www.reginfo.gov/public/do/PRAMain or from the Department's Web site at http://edicsweb.ed.gov, by selecting the “Browse Pending Collections” link and by clicking on link number 4729. When you access the information collection, click on “Download Attachments” to view. Written requests for information should be addressed to U.S. Department of Education, 400 Maryland Avenue SW., LBJ, Washington, DC 20202-4537. Requests may also be electronically mailed to the Internet address ICDocketMgr@ed.gov or faxed to (202) 401-0920. Please specify the complete title of the information collection and OMB Control Number when making your request.

Individuals who use a telecommunications device for the deaf (TDD) may call the Federal Information Relay Service (FIRS) at 1-(800) 877-8339.

[FR Doc. 2011-30847 Filed 11-29-11; 8:45 a.m.]

BILLING CODE 4000-01-P